DEPARTMENT OF AGRICULTURE

DEPARTMENT OF HEALTH AND HUMAN SERVICES

Joint Institute for Food Safety Research; Public Meeting

AGENCIES: United States Department of Agriculture (USDA), Department of Health and Human Services (DHHS).

ACTION: Notice; public meeting; establishment of public docket.

SUMMARY: On July 8, 1998, President Clinton directed the Secretaries of Agriculture and Health and Human Services to develop a plan to create the Joint Institute for Food Safety Research (JIFSR). On July 3, 1999, following extensive public consultations, DHHS and USDA submitted the requested plan to the President. The report can be obtained at http://www.Foodsafety.gov/.

USDA and DHHS are now soliciting public comments on food research needs via a public meeting. The purposes of the meeting are to listen to the overall food safety research priorities and agenda from the JIFSR Policy and Budget Committee members and have an opportunity to ask questions and/or make comments on their views on priorities and important priorities for food safety research.

The meeting is open to the public. Written comments and suggestions on issues that may be considered in the meeting may be submitted to the CSREES Docket Clerk at the address below.

DATES: The meeting will be held on December 1, 2000, from 9 a.m. to 12 p.m.

ADDRESSES: The meeting will be held in Room 107A, Jamie L. Whitten Building, United States Department of Agriculture, 1400 Independence Avenue, SW., Washington, DC 20250-0110.

FOR FURTHER INFORMATION CONTACT: Ms. Maureen Wood, (202) 720-5887 or by e-mail to maureen.wood@usda.gov.

SUPPLEMENTARY INFORMATION: Persons wishing to present comments orally at this meeting are requested to pre-register by contacting Ms. Maureen Wood at (202) 720-5887, by fax at (202) 690-2842, or by e-mail to maureen.wood@usda.gov. Participants may reserve a 5-minute comment period when they register. More time may be available, depending on the number of people wishing to make a presentation and the time needed for questions following the presentations. Reservations will be confirmed on a first-come, first-serve basis. All other attendees may register at the meeting. Written comments may also be submitted for the record at the meeting or may be mailed to Ms. Maureen Wood, USDA/REE, Room 217W, Jamie L. Whitten Federal Building, 1400 Independence Avenue, SW., Washington, DC 20250-0110. Please provide five copies of the comments. Written comments must be postmarked by December 18, 2000 to be considered. All comments and the official transcript of the meeting when it becomes available, will be available for review for six months at the address listed above from 8:30 a.m. to 4:30 p.m., Monday through Friday.

Participants who require a sign language interpreter or other special accommodations should contact Ms. Wood by Friday, November 24, 2000 as directed above.

Done in Washington, DC, on this 13th day of November, 2000.
Eileen Kennedy,
Deputy Under Secretary, Research, Education, and Economics Department of Agriculture.

William Raub,
Deputy Assistant Secretary for Science Policy, Department of Health and Human Services.

[FR Doc. 00-29750 Filed 11-20-00; 8:45 am]

BILLING CODE 3410-22-P